COMMITTEE FOR THE IMPLEMENTATION OF TEXTILE AGREEMENTS
Request for Public Comments on Commercial Availability Request under the African Growth and Opportunity Act (AGOA), the United States-Caribbean Basin Trade Partnership Act (CBTPA), and the Andean Trade Promotion and Drug Eradication Act (ATPDEA)
January 28, 2004.

AGENCY:
The Committee for the Implementation of Textile Agreements

ACTION:
Request for public comments concerning a request for a determination that three patented fusible interlining fabrics, used in the construction of waistbands, cannot be supplied by the domestic industry in commercial quantities in a timely manner under the AGOA, the CBTPA, and the ATPDEA.

SUMMARY:
On January 20, 2004, the Chairman of CITA received a petition from Levi Strauss and Co. alleging that a certain fusible composition material, of the specifications detailed below, classified in subheading 5903.90.2500 of the Harmonized Tariff Schedule of the United States (HTSUS) cannot be supplied by the domestic industry in commercial quantities in a timely manner. The petition requests that apparel containing waistbands of such fabrics be eligible for preferential treatment under the AGOA, the CBTPA, and the ATPDEA. CITA hereby solicits public comments on this request, in particular with regard to whether such fabrics can be supplied by the domestic industry in commercial quantities in a timely manner. Comments must be submitted by February 17, 2004, to the Chairman, Committee for the Implementation of Textile Agreements, Room 3001, United States Department of Commerce, 14th and Constitution Avenue, NW. Washington, DC 20230.

FOR FURTHER INFORMATION CONTACT:
Richard Stetson or Martin Walsh, International Trade Specialists, Office of Textiles and Apparel, U.S. Department of Commerce, (202) 482-3400.

SUPPLEMENTARY INFORMATION:

Authority:
Section 112(b)(5)(B) of the AGOA; Section 213(b)(2)(A)(v)(II) of the Caribbean Basin Economic Recovery Act, as added by Section 211(a) of the CBTPA; Sections 1 and 6 of Executive Order No. 13191 of January 17, 2001; Presidential Proclamations 7350 and 7351 of October 4, 2000; Section 204 (b)(3)(B)(ii) of the ATPDEA, Presidential Proclamation 7616 of October 31, 2002, Executive Order 13277 of November 19, 2002, and the United States Trade Representative's Notice of Further Assignment of Functions of November 25, 2002.

Background
The AGOA, the CBTPA, and the ATPDEA provide for quota- and duty-free treatment for qualifying textile and apparel products. Such treatment is generally limited to products manufactured from yarns and fabrics formed in the United States or a beneficiary country. The AGOA, the CBTPA, and the ATPDEA also provide for quota- and duty-free treatment for apparel articles that are both cut (or knit-to-shape) and sewn or otherwise assembled in one or more beneficiary countries from fabric or yarn that is not formed in the United States, if it has been determined that such fabric or yarn cannot be supplied by the domestic industry in commercial quantities in a timely manner. In Executive Order No. 13191 (66 FR 7271) and pursuant to Executive Order No. 13277 (67 FR 70305) and the United States Trade Representative's Notice of Redelegation of Authority and Further Assignment of Functions (67 FR 71606), CITA has been delegated the authority to determine whether yarns or fabrics cannot be supplied by the domestic industry in commercial quantities in a timely manner under the AGOA, the CBTPA, or the ATPDEA. On March 6, 2001, CITA published procedures that it will follow in considering requests (66 FR 13502).
On January 20, 2004, the Chairman of CITA received a petition from Levi Strauss and Co. alleging that certain fusible composition material, of the specifications detailed below, classified in HTSUS subheading 5903.90.2500, for use in waistbands of apparel articles, cannot be supplied by the domestic industry in commercial quantities in a timely manner and requesting quota- and duty-free treatment under the AGOA, the CBTPA, and the ATPDEA for apparel articles that are both cut and sewn in one or more beneficiary countries utilizing such fabrics.

The three fabrics at issue are:

Fusible A - Composition
A knitted outer-fusible material. The fusible width variance is not less the 3/4 inches wide (18 to 20 mm) or more the 6 inches (153 to 155 mm) wide. The fabric substrate is, synthetic fiber based (made of 49 percent polyester / 43 percent elastomeric filament / 8 percent nylon with an average weight of 4.4 ounces, not greater than 5 ounces, a 110/110 stretch, and a dull yarn), stretch elastomeric material with an adhesive (thermoplastic resin) coating. This fusible may have a fiber variance of up to 3 percent for each fiber.
Fusible B - Composition
A knitted inner and outer fusible material with an adhesive (thermoplastic resin) coating that is applied after going through a finishing process to remove all shrinkage from the product. The fabric is a synthetic fiber based stretch elastomeric fusible consisting of 80 percent nylon type 6 / 20 percent elastomeric filament with a weight of 4.4 ounces, not greater than 5 ounces, a 110/110 stretch, and a dull yarn. The fusible width variance is not less the 3/4 inches wide (18 to 20 mm) or more than 6 inches (153 to 155 mm) wide. This fusible may have a fiber variance of up to 3 percent for each fiber.
Fusible C - Composition
A knitted fusible material used to shape countour waistbands and is applied on top of the main fusible only as a reinforcement. The fusible width variance is not less than 1/4 inches wide (5 to 6 mm) or more than 1 inch (25 to 27 mm) wide. The fabric is 11.2 percent nylon / 34.4 percent polyester / 54.4 percent elastomeric at a weight of 300 grams to not greater than 400 grams per square meter. This fusible may have a fiber variance of up to 3 percent for each fiber.

With each of these, the following applies:

(a) In the length it exhibits excellent stretch and recovery properties at low extension levels.
9b) It is delivered pre-shrunk with no potential for relaxation shrinkage during high temperature washing or fusing and delivered lap laid, i.e., tension free.
(c) It is supplied pre-coated with an adhesive that will adhere to 100 percent cotton and other composition materials such polyester/cotton blend during fusing at a temperature of 180 degrees Celsius.
(d) The adhesive is of a melt flow index which will not strike back through the interlining substrate or strike through the fabric to which it is fused and whose adhesion level will be maintained or improved through garment processing temperatures of up to 350 degrees Fahrenheit and dwell times of 20 minute durations.
(e) The duration and efficacy of the bond will be such that the adhesive will not, during industrial washing, later garment wear or after-care of 30 home washes, become detached from the fabric or base substrate.
The finished interlining fabric is a fabric that has been coated with an adhesive coating after going through a finishing process to remove all shrinkage from the product and impart a stretch to the fabric. This finishing process of imparting stretch to fabric is patented, U.S. Patent 5,987,721.
CITA is soliciting public comments regarding this request, particularly with respect to whether these fabrics can be supplied by the domestic industry in commercial quantities in a timely manner. Also relevant is whether other fabrics that are supplied by the domestic industry in commercial quantities in a timely manner are substitutable for these fabrics for purposes of the intended use. Comments must be received no later than February 17, 2004. Interested persons are invited to submit six copies of such comments or information to the Chairman, Committee for the Implementation of Textile Agreements, room 3100, U.S. Department of Commerce, 14th and Constitution Avenue, NW., Washington, DC 20230.
If a comment alleges that these fabrics can be supplied by the domestic industry in commercial quantities in a timely manner, CITA will closely review any supporting documentation, such as a signed statement by a manufacturer of the fabrics stating that it produces the fabrics that are the subject of the request, including the quantities that can be supplied and the time necessary to fill an order, as well as any relevant information regarding past production.

CITA will protect any business confidential information that is marked business confidential from disclosure to the full extent permitted by law. CITA will make available to the public non-confidential versions of the request and non-confidential versions of any public comments received with respect to a request in room 3100 in the Herbert Hoover Building, 14th and Constitution Avenue, N.W., Washington, DC 20230. Persons submitting comments on a request are encouraged to include a non-confidential version and a non-confidential summary.

James C. Leonard III,
Chairman, Committee for the Implementation of Textile Agreements.

[FR Doc. 04-2069 Filed 1-28-04; 3:11 pm]
BILLING CODE 3510-DR-S